DEPARTMENT OF COMMERCE

Census Bureau

Agency Information Collection Activities; Submission to the Office of Management and Budget (OMB) for Review and Approval; Comment Request; Annual Integrated Economic Survey (AIES)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 26, 2024, during a 60-day comment period. This notice allows for an additional 30 days for public comments.

Agency: U.S. Census Bureau, Department of Commerce.

Title: Annual Integrated Economic Survey (AIES).

OMB Control Number: 0607-1024.

Form Number(s): This electronic collection has no form number.

Type of Request: Regular submission, Request for a Revision of a Currently Approved Collection.

Number of Respondents: 305,340.

Average Hours per Response: 2 hours, 34 minutes.

Burden Hours: 784,950.

Needs and Uses: The U.S. Census Bureau requests Office of Management and Budget (OMB) approval to revise the Annual Integrated Economic Survey (AIES). The AIES is a survey which has integrated and replaced seven existing annual business surveys into one survey. The AIES provides the only comprehensive national and subnational data on business revenues, expenses, and assets on an annual basis. The AIES is designed to combine several Census Bureau collections to reduce respondent burden, increase data quality, and allow the Census Bureau to operate more efficiently.

The AIES collects the following information from employer businesses in sample:

• Business characteristics, including employment, operating status, organizational change, ownership information, and co-op status

• Business classification, including business activity, type of operation, and tax status

• Revenue, including sales, shipments, and receipts, revenue by class of customer, taxes, contributions, gifts, and grants, products, and e-commerce activity

• Operating expenses, including purchased services, payroll, benefits, rental payments, utilities, interest, resales, equipment, materials and supplies, research and development, and other detailed operating expenses

• Assets, including capital expenditures, and inventories

• Robotic equipment expenditures and usage

Additional topics of collections in the AIES include sources of revenue and/or expense for providers (e.g., hospitals and other businesses in the health industry) of select services such as inpatient days, outpatient visits to hospitals, patient visits for other selected health industries, revenue from telemedicine services, and expenses for electronic health records. Merchandise lines data will be collected from businesses operating in select retail industries. North American Product Classification System (NAPCS) broadlines will be collected from businesses in manufacturing.

The AIES may include new questions each year based on relevant business topics. Potential topics for such new questions could include technological advances, management and business practices, exporting practices, and globalization. Any new questions will be submitted to OMB for review using the appropriate clearance vehicle.

To reduce respondent burden in the 2024 Annual Integrated Economic Survey, the Census Bureau plans to implement several key changes to streamline the data collection process. In the 2023 AIES, we collected select data at both the company and establishment levels. For the 2024 AIES, we will collect this overlapping data exclusively at the establishment-level, allowing the Census Bureau to derive necessary company-level information without additional input from respondents. We have also eliminated questions that frequently resulted in poor reporting and significant data suppression, leading to a clearer and more manageable survey experience. To further enhance efficiency, some items will now be collected only in the first year of a new sample, facilitating effective content rotation. Additionally, we have combined specific content to minimize suppression rates and increase the availability of usable data. The Census Bureau removed content that was not disseminated to the public and/or was collected solely for a federal stakeholder, which was deemed non-essential for their programs following discussions with the stakeholders and gaining mutual agreement.

Additionally, approximately 80,000 single-unit companies will be removed from collection and will not receive a questionnaire. The Census Bureau will obtain data for these non-mailed companies using information from the administrative records of the IRS and the Social Security Administration.

These changes are designed to create a more efficient survey process while maintaining our commitment to high data quality standards.

Frequency: Annually.

Respondent's Obligation: Mandatory.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1024.

Sheleen Dumas,
Departmental PRA Clearance Officer, Office of the Under Secretary for Economic Affairs, Commerce Department.

[FR Doc. 2024-26270 Filed 11-12-24; 8:45 am]

BILLING CODE 3510-07-P